DEPARTMENT OF TRANSPORTATION

Federal Highway Administration

Notice of Final Federal Agency Actions on Proposed Highway in Utah

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed multi-modal project (Provo-Orem Bus Rapid Transit) that addresses roadway and transit infrastructure needs in Utah County, State of Utah. Those actions grant licenses, permits, and approvals for the project.

DATES: By this notice, the FHWA is advising the public of final agency actions subject to 23 U.S.C. 139(l)(1). A claim seeking judicial review of the Federal agency actions on the highway project will be barred unless the claim is filed on or before April 1, 2012. If the Federal law that authorizes judicial review of a claim provides a time period of less than 180 days for filing such claim, then that shorter time period still applies.

FOR FURTHER INFORMATION CONTACT: For FHWA: Mr. Edward T. Woolford, Environmental Program Manager, Federal Highway Administration, 2520 West 4700 South, Suite 9A, Salt Lake City, UT 84118. FHWA's regular business hours are Monday through Friday, 7:30 a.m. to 4:30 p.m. MST. For UDOT: Mr. Brandon Weston, 4501 South 2700 West, Salt Lake City, Utah 84119-5998; Telephone: (801) 965-4603; e-mail: brandonweston@utah.gov. The UDOT's normal business hours are Monday through Friday, 7 a.m. to 4:30 p.m. MST.

SUPPLEMENTARY INFORMATION: Notice is hereby given that the FHWA has taken final agency actions subject to 23 U.S.C. 139(l)(1) by issuing licenses, permits, and approvals for the following highway project in the State of Utah: The Provo-Orem Bus Rapid Transit project number F-R399(83). The project has roadway and transit components. This notice covers the roadway portions of the selected alternative from the Environmental Assessment which include: Two additional general purpose lanes on University Parkway from State Street to University Avenue in Provo, Utah; New high-occupancy/toll (HOT) interchange at 800 South and I-15 in Orem to serve automobiles, transit vehicles, pedestrians, and cyclists. These improvements will increase transportation capacity to accommodate growing population, employment, student enrollment, and travel demand in the year 2030; improve multimodal connectivity across I-15 and from I-15 to Orem and Provo, Utah.

The actions by the Federal agency, and the laws under which such actions were taken, are described in the Environmental Assessment (EA) for the project, approved on April 8, 2011, in the FHWA Finding of No Significant Impact (FONSI) decision issued on September 6, 2011, and in other documents in the FHWA project records. The EA, FONSI, and other project records are available by contacting FHWA or the Utah Department of Transportation at the addresses provided above. The FHWA EA and FONSI can be viewed at public libraries in the project area.

This notice applies to all Federal agency decisions as of the issuance date of this notice and all laws under which such actions were taken, including but not limited to:

1. General: National Environmental Policy Act (NEPA) [42 U.S.C. 4321- 4351]; Federal-Aid Highway Act [23 U.S.C. 109 and 23 U.S.C. 128].

2. Air: Clean Air Act [42 U.S.C. 7401- 7671(q)].

3. Land: Section 4(f) of the Department of Transportation Act of 1966 [49 U.S.C. 303];.

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq.]; .

6. Social and Economic: Civil Rights Act of 1964 [42 U.S.C. 2000(d)- 2000(d)(1)]; Farmland Protection Policy Act (FPPA) [7 U.S.C. 4201-4209].

7. Executive Orders: E.O. 11990, Protection of Wetlands; E.O. 11988, Floodplain Management; E.O. 12898, Federal Actions to Address Environmental Justice in Minority Populations and Low Income Populations; E.O. 13175, Consultation and Coordination with Indian Tribal Governments; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Issued on: September 26, 2011.
James Christian,
Division Administrator, Salt Lake City.

[FR Doc. 2011-25459 Filed 10-3-11; 8:45 am]

BILLING CODE 4910-RY-P